DEPARTMENT OF HOMELAND SECURITY

Coast Guard

[Docket No. USCG-2014-0713]

Collection of Information Under Review by Office of Management and Budget; OMB Control Number: 1625-NEW

AGENCY: Coast Guard, DHS.

ACTION: Thirty-day notice requesting comments.

SUMMARY: In compliance with the Paperwork Reduction Act of 1995 the U.S. Coast Guard is forwarding an Information Collection Request (ICR), abstracted below, to the Office of Management and Budget (OMB), Office of Information and Regulatory Affairs (OIRA), requesting approval for the following collection of information: 1625-NEW, State Registration Data. Our ICR describes the information we seek to collect from the public. Review and comments by OIRA ensure we only impose paperwork burdens commensurate with our performance of duties.

DATES: Comments must reach the Coast Guard and OIRA on or before November 26, 2018.

ADDRESSES: You may submit comments identified by Coast Guard docket number [USCG-2014-0713] to the Coast Guard using the Federal eRulemaking Portal at https://www.regulations.gov. Alternatively, you may submit comments to OIRA using one of the following means:

(1) Email: dhsdeskofficer@omb.eop.gov.

(2) Mail: OIRA, 725 17th Street NW, Washington, DC 20503, attention Desk Officer for the Coast Guard.

A copy of the ICR is available through the docket on the internet at https://www.regulations.gov. Additionally, copies are available from: COMMANDANT (CG-612), Attn: Paperwork Reduction Act Manager, U.S. Coast Guard, 2703 Martin Luther King Jr. Ave. SE, Stop 7710, Washington, DC 20593-7710.

FOR FURTHER INFORMATION CONTACT: Mr. Anthony Smith, Office of Information Management, telephone 202-475-3532, or fax 202-372-8405, for questions on these documents.

SUPPLEMENTARY INFORMATION:

Public Participation and Request for Comments

This Notice relies on the authority of the Paperwork Reduction Act of 1995; 44 U.S.C. Chapter 35, as amended. An ICR is an application to OIRA seeking the approval, extension, or renewal of a Coast Guard collection of information (Collection). The ICR contains information describing the Collection's purpose, the Collection's likely burden on the affected public, an explanation of the necessity of the Collection, and other important information describing the Collection. There is one ICR for each Collection.

The Coast Guard invites comments on whether this ICR should be granted based on the Collection being necessary for the proper performance of Departmental functions. In particular, the Coast Guard would appreciate comments addressing: (1) The practical utility of the Collection; (2) the accuracy of the estimated burden of the Collection; (3) ways to enhance the quality, utility, and clarity of information subject to the Collection; and (4) ways to minimize the burden of the Collection on respondents, including the use of automated collection techniques or other forms of information technology. These comments will help OIRA determine whether to approve the ICR referred to in this Notice.

We encourage you to respond to this request by submitting comments and related materials. Comments to Coast Guard or OIRA must contain the OMB Control Number of the ICR. They must also contain the docket number of this request, [USCG-2014-0713], and must be received by November 26, 2018.

Submitting Comments

We encourage you to submit comments through the Federal eRulemaking Portal at https://www.regulations.gov. If your material cannot be submitted using https://www.regulations.gov, contact the person in the FOR FURTHER INFORMATION CONTACT section of this document for alternate instructions. Documents mentioned in this notice, and all public comments, are in our online docket at https://www.regulations.gov and can be viewed by following that website's instructions. Additionally, if you go to the online docket and sign up for email alerts, you will be notified when comments are posted.

We accept anonymous comments. All comments received will be posted without change to https://www.regulations.gov and will include any personal information you have provided. For more about privacy and the docket, you may review a Privacy Act notice regarding the Federal Docket Management System in the March 24, 2005, issue of the Federal Register (70 FR 15086).

OIRA posts its decisions on ICRs online at https://www.reginfo.gov/public/do/PRAMain after the comment period for each ICR. An OMB Notice of Action on each ICR will become available via a hyperlink in the OMB Control Number: 1625-NEW.

Previous Request for Comments

This request provides a 30-day comment period required by OIRA. The Coast Guard published the 60-day Notice (81 FR 85987, November 29, 2016) required by 44 U.S.C. 3506(c)(2). The Coast Guard previously published a 60-day Notice for this ICR on October 7, 2014 (79 FR 60483). The comments from that Notice were addressed in the latest 60-day Notice (81 FR 85987), November 29, 2016). The present 60-day Notice elicited several questions from a single commenter.

Comment (1) A commenter questioned the Coast Guard's response to previously submitted comment (6) in which the Coast Guard noted a reduced reporting burden with the revised form. The commenter noted that the burden is not reduced since collecting aspects of vessels such as hull material and engine type are already required under 33 CFR 174 even if statistics regarding these aspects are not required on form CGHQ-3923.

Answer: The burden of filling out the revised form is reduced. On the previous version of CGHQ-3923, the Coast Guard required statistics on over 150 data points whereas the proposed version of the form requires only 69. The previous version requested information on five variables (vessel type, hull material, length, engine type and use) whereas the proposed version requires only three variables (vessel type, length, primary operation). The Coast Guard expects a reduced burden as the proposed form will require fewer queries and fewer data point checks to complete it.

Comment (2) A commenter questioned why aspects of vessels such as hull material and engine type are necessary in 33 CFR 174 since they are not required elements to be reported on form CGHQ-3923.

Answer: Various aspects of vessels are required to be collected for law enforcement purposes. Even though various vessel aspects such as hull material and engine type are not on the proposed form CGHQ-3923, they are used in accident, theft, and fraud investigations. Using common terminology facilitates common understanding.

Comment (3) A commenter noted that hull material and engine type are of interest to sectors and should be on form CGHQ-3923 since information on them cannot be obtained outside of CGHQ-3923.

Answer: The Coast Guard works with various sectors including government, industry, non-profits, and researchers. If a party requested information other than what is available on CGHQ-3923, the Coast Guard would direct the user to a more appropriate contact.

Comment (4) A commenter provided a recommended version of CGHQ-3923 that is a medication of the previous CGHQ-3923. It includes additional hull material entries, an additional engine type, and changes the names of some categories.

Answer: The Coast Guard thanks the commenter for the suggested form but maintains a desire to have a simplified form for use by the States. The Coast Guard has not used the hull material or engine information collected previously. Because we have not used the data, we removed it from the form so as to reduce the burden of data reporting on the States.

Information Collection Request

Title: State Registration Data.

OMB Control Number: 1625-NEW.

Summary: This file provides information on the collection of registration data from the State reporting authorities.

Need: 46 U.S.C. 12302 and 33 CFR 174.123 authorize the collection of this information. Registration data is used for statistical purposes.

Forms: CGHQ-3923, State Registration Data.

Respondents: 56 State reporting authorities respond.

Frequency: Annually.

Hour Burden Estimate: This is a new information collection; the estimated annual burden is 42 hours a year.

Authority: The Paperwork Reduction Act of 1995; 44 U.S.C. Chapter 35, as amended.

Dated: 23 October 2018.
James D. Roppel,
U.S. Coast Guard, Acting Chief, Office of Information Management.

[FR Doc. 2018-23477 Filed 10-25-18; 8:45 am]

BILLING CODE 9110-04-P